DEPARTMENT OF DEFENSE

Office of the Secretary

[Docket ID: DoD-2022-OS-0109]

Proposed Collection; Comment Request

AGENCY: Under Secretary of Defense (Comptroller), Department of Defense (DoD).

ACTION: 60-Day information collection notice.

SUMMARY: In compliance with the Paperwork Reduction Act of 1995, the Defense Contract Audit Agency announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by October 31, 2022.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Attn: Mailbox 24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Defense Contract Audit Agency, 8725 John J. Kingman Road, Fort Belvoir, Virginia 22060, ATTN: Ms. Kimberly Litherland, 571-448-5157.

SUPPLEMENTARY INFORMATION:

Title; Associated Form; and OMB Number: Defense Contract Audit Agency Customer Relationship Management Tool; OMB Control Number 0704-DCRM.

Needs and Uses: The purpose of this collection is to conduct recruitment, marketing, outreach, and advertising to prospective applicants for employment positions within the DoD, to manage tracking and communications with potential leads and conduct outreach to retain applicants during the hiring process, reengage qualified potential applicants who do not initially apply or are not selected or hired the first time they apply, and conduct data analytics for recruitment strategies, to measure the effectiveness of outreach campaigns and other recruiting activities. The intent of the collection is to make it easy for structured data on a candidate to be entered into the system in addition to the collection of a resume such that a candidate's eligibility and qualifications can easily be assessed.

Affected Public: Individuals or households.

Annual Burden Hours: 83.33 hours.

Number of Respondents: 500.

Responses per Respondent: 1.

Annual Responses: 500.

Average Burden per Response: 10 minutes.

Frequency: On occasion.

Dated: August 24, 2022.
Aaron T. Siegel,
Alternate OSD Federal Register Liaison Officer, Department of Defense.

[FR Doc. 2022-18616 Filed 8-29-22; 8:45 am]

BILLING CODE 5001-06-P